DEPARTMENT OF AGRICULTURE

Agricultural Marketing Service

[Document Number AMS-SC-22-0090]

Virtual Meeting of the Fruit and Vegetable Industry Advisory Committee

AGENCY: Agricultural Marketing Service, USDA.

ACTION: Notice of public meeting.

SUMMARY: In accordance with the Federal Advisory Committee Act, as amended, the Agricultural Marketing Service (AMS), U.S. Department of Agriculture (USDA), is announcing a meeting of the Fruit and Vegetable Industry Advisory Committee (FVIAC). This meeting is being convened to discuss general Federal Advisory Committee operations for newly appointed representatives, hold elections, receive updates from USDA offices, and perform a series of administrative actions.

DATES: The FVIAC will meet via webinar (virtually) on January 25, 2023, from 10 a.m. to 4 p.m. Eastern Time (ET).

Written Comments: Written public comments will be accepted by 11:59 p.m. ET on January 11, 2023, via http://www.regulations.gov: Document #AMS-SC-22-0090. Comments submitted after this date will be provided to AMS, but the Committee may not have adequate time to consider those comments prior to the meeting. AMS, Specialty Crops Program, strongly prefers that written comments be submitted electronically. However, written comments may also be submitted (i.e., postmarked) via mail to the person listed in the FOR FURTHER INFORMATION CONTACT section by or before the deadline.

Oral Comments: FVIAC will hear oral public comments via the webinar on January 25, 2023. Each commenter wishing to address the FVIAC must pre-register by 11:59 p.m. ET on January 11, 2023. Instructions for registering and participating in the webinars can be found at https://www.ams.usda.gov/event/usda-fruit-and-vegetable-industry-advisory-committee-virtual-meeting-0.

ADDRESSES: The webinar for the meeting and public comment period can be accessed via the internet and/or phone. Members of the public must register in advance for this webinar. Instructions for registering and participating in the webinar can be found at https://www.ams.usda.gov/event/usda-fruit-and-vegetable-industry-advisory-committee-virtual-meeting-0.

FOR FURTHER INFORMATION CONTACT: Darrell Hughes, Designated Federal Officer, Fruit and Vegetable Industry Advisory Committee, USDA-AMS-Specialty Crops Program, 1400 Independence Avenue SW, Suite 1575, STOP 0235, Washington, DC 20250-0235; Telephone: (202) 378-2576; Email: SCPFVIAC@usda.gov.

SUPPLEMENTARY INFORMATION: Pursuant to the Federal Advisory Committee Act (FACA) (5 U.S.C. app. 2), the Secretary of Agriculture (Secretary) established the Committee in 2001 to examine the full spectrum of issues faced by the fruit and vegetable industry and to provide suggestions and ideas to the Secretary on how USDA can tailor its programs to meet the fruit and vegetable industry's needs.

The AMS Chief of Staff for the Specialty Crops Program serves as the Committee's Designated Federal Officer, leading the effort to administer the Committee's activities. Representatives from USDA mission areas and other government agencies affecting the fruit and vegetable industry are periodically called upon to participate in the Committee's meetings as determined by the Committee. AMS is giving notice of the Committee meeting to the public so that they may participate and present their views via written comments. The meeting is open to the public.

Agenda items may include, but are not limited to, welcome and introductions; administrative matters; and presentations by subject matter experts as requested by the Committee.

Written Comments: Written public comments will be accepted by 11:59 p.m. ET on January 11, 2023, via http://www.regulations.gov: Document #AMS-SC-22-0090. Comments submitted after this date will be provided to AMS, but the Committee may not have adequate time to consider those comments prior to the meeting. AMS, Specialty Crops Program, strongly prefers that written comments be submitted electronically. However, written comments may also be submitted (i.e., postmarked) via mail to the person listed in the FOR FURTHER INFORMATION CONTACT section by or before the deadline.

Oral Comments: FVIAC will hear oral public comments via the webinar on January 25, 2023. Each commenter wishing to address the FVIAC must pre-register by 11:59 p.m. ET on January 11, 2023. Instructions for registering and participating in the webinars can be found at https://www.ams.usda.gov/event/usda-fruit-and-vegetable-industry-advisory-committee-virtual-meeting-0.

Meeting Accommodations: The USDA provides reasonable accommodation to individuals with disabilities. The FVIAC virtual meeting will have sign language interpretation. If you are a person requiring other reasonable accommodation, please make requests in advance to the person listed under the FOR FURTHER INFORMATION CONTACT section. Determinations for reasonable accommodation will be made on a case-by-case basis.

Dated: December 23, 2022.
Cikena Reid,
USDA Committee Management Officer.

[FR Doc. 2022-28390 Filed 12-28-22; 8:45 am]

BILLING CODE 3410-02-P